DEPARTMENT OF TRANSPORTATION

Federal Highway Administration

Environmental Impact Statement: In the vicinity of the City and Borough of Juneau, AK

AGENCY: Federal Highway Administration (FHWA), Alaska Department of Transportation and Public Facilities (ADOT&PF).

ACTION: Notice of intent.

SUMMARY: The FHWA, in cooperation with ADOT&PF, will prepare a supplemental draft environmental impact statement (SDEIS) for Juneau Access Improvements, a project to improve surface transportation to and from Juneau within the Lynn Canal corridor.

FOR FURTHER INFORMATION CONTACT: Tim Haugh, FHWA Environment & Right of Way Program Manager, FHWA, PO Box 21648, Juneau, Alaska 99802, (907) 586-7430, or Reuben Yost, ADOT&PF Regional Environmental Coordinator, 6860 Glacier Highway, Juneau, Alaska 99801, (907) 465-4498.

SUPPLEMENTARY INFORMATION: A draft Environmental Impact Statement (DEIS) for this project was released on June 23, 1997. A final EIS has not been submitted to FHWA. As more than three years have passed since the release of the DEIS, ADOT&PF prepared a written reevaluation of the document on January 3, 2003. ADOT&PF concluded, and FHWA concurred, that a SDEIS is needed to update the original document.

The purpose for the project remains the same: improve surface transportation to provide travel flexibility, capacity to meet demand, adn greater travel opportunity while reducing travel time, state costs and user costs. All alternatives considered will be updated and reevaluated. This includes those advanced for further study (i.e. No Build, East Lynn Canal Highway, and All Marine Options A—D) as well as those originally rejected as not reasonable. The purpose of the SDEIS is to update information presented in the DEIS (although released in 1997, much of the data was from 1992-94) and to conduct additional studies needed to address comments on the DEIS and/or issues that might be raised at new public and agency meetings.

Several new or updated studies will be incorporatd into the SDEIS. ADOT&PF will revise the User Benefit Analysis, Trffic Forecast Analysis, and Household Survey to update the Purpose and Need chapter. New Cost Estimates, a Project Mitigation Report, and an Alternatives Analysis Report will be prepared to update the Project Alternatives chapter. The Cultural Resources Study; the Snow Avalanche Report; and the Land Use/Coastal Zone, Bald Eagle, Steller Sea Lion, Wetlands, and Wildlife Technical Reports will be revised. ADOT&PF will use these revisions and an Essential Fish Habitat Assessment to update the Affected Environment chapter. The Socioeconomic Effects Study, Visual Impact Assessment, Marine Segments, and Technical Alignment Reports will be revised, and a Secondary/Cumulative Impacts Analysis prepared, to update the Environmental Consequences chapter.

Announcements describing the supplemental draft EIS (SDEIS) process and requesting comments will be sent to appropriate federal, state, and local agencies. Public notices will also be published in local newspapers. ADOT&PF will hold public informational meetings in Juneau, Haines, and Skagway in early April. A resource agency scoping meeting will be held in Juneau during the same time period. Project staff will present the proposed project schedule, alternative update information, and anticipated studies.

Public hearings will be held following publication of the SDEIS. Notice of the hearings and availability of the document will be published in the “Federal Register,” “Juneau Empire,” “Chilkat Valley News,” “Skagway News” and the “Anchorage Daily News.” Comments or questions concerning the project and the SDEIS should be directed to the FHWA or ADOT&PF addresses provided.

(Catalog of Federal Domestic Assistance Program Number 20.205, Highway Research, Planning and Construction. The regulations implementing Executive Order 12372 regarding intergovernmental consultation of Federal programs and activities apply to this program.)
Issued on: February 28, 2003.
David C. Miller,
Division Administrator, Juneau, Alaska.

[FR Doc. 03-5765 Filed 3-10-03; 8:45 am]

BILLING CODE 4910-22-M